DEPARTMENT OF HOUSING AND URBAN DEVELOPMENT

[Docket No. FR-7065-N-03]

60-Day Notice of Proposed Information Collection: Generic Solicitation for Pre-Award Activities for HUD Competitive Discretionary Awards; OMB Control No.: 2501-NEW

AGENCY: Office of the Chief Financial Officer, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: December 5, 2023.

ADDRESSES: Interested persons are invited to submit comments regarding this proposal. Written comments and recommendations for the proposed information collection can be submitted within 60 days of publication of this notice to www.reginfo.gov/public/do/PRAMain. Find this particular information collection by selecting “Currently under 60-day Review—Open for Public Comments” or by using the search function. Interested persons are also invited to submit comments regarding this proposal by name and/or OMB Control Number and can be sent to: Colette Pollard, Reports Management Officer, Department of Housing and Urban Development, 451 7th Street SW, Room 4176, Washington, DC 20410-5000 or email at paperworkreductionactoffice@hud.gov.

FOR FURTHER INFORMATION CONTACT: Colette Pollard, Reports Management Officer, Department of Housing and Urban Development, 451 7th Street SW, Room 4176, Washington, DC 20410-5000; email at Colette.Pollard@hud.gov or telephone 202-402-3400 (this is not a toll-free number). HUD welcomes and is prepared to receive calls from individuals who are deaf or hard of hearing, as well as individuals with speech or communication disabilities. To learn more about how to make an accessible telephone call, please visit https://www.fcc.gov/consumers/guides/telecommunications-relay-service-trs. Copies of available documents submitted to OMB may be obtained from Ms. Pollard.

SUPPLEMENTARY INFORMATION: This notice informs the public that the Department is soliciting comments prior to submitting the proposed information collection to OMB for review, as required by the Paperwork Reduction Act of 1995 (44 U.S.C. chapter 35, as amended). HUD is seeking approval from OMB for the information collection described in Section A.

A. Overview of Information Collection

Title of Proposal: Generic Solicitation for Pre-Award Activities for Applications for HUD Competitive Discretionary Awards.

Type of Request: New Information Collection Request.

OMB Control Number, if applicable: 2501-NEW.

Additional OMB control numbers applicable to government-wide standardized forms are also noted in this collection. As the burden is accounted for in those separate collections, it is not included in this calculation.

SF 424, OMB Control No. 4040-0004

SF 424-A, OMB Control No. 4040-0006

SF 424-B, OMB Control No. 4040-0007

SF 424-C, OMB Control No. 4040-0008

SF 424 D, OMB Control No. 4040-0009

SF LLL, OMB Control No. 4040-0013

Lobbying Form, OMB Control No. 4040-0013

Projects Abstract Summary, OMB Control No. 4040-0019

Description of the need for the information and proposed use: HUD is required by 2 CFR 200.204 to publicly announce the availability of discretionary awards that are competed. To ensure grants and cooperative agreements are awarded to applicants best suited to perform the functions of the awards, applicants are generally required to perform two pre-award steps, the submission of the application and the negotiation of the individual award terms. The first part of HUD's funding applications consists of submitting the Standard Form 424 (SF-424), “Application for Federal Assistance” along with mandatory and optional standard government-wide and HUD forms. The burden associated with these government-wide forms are reflected in separate OMB-sponsored government-wide information collections and are not reflected in this collection.

After the applicants have been selected as part of an objective competition process, HUD usually requires negotiation between HUD and the selected applicant to determine the terms of the award. A technical proposal (or technical submission) is required during the negotiation process. The technical proposal demonstrates the selected applicant's capabilities in accordance with the application or statement of work submitted with the application and/or selection criteria and other related information as specified in the funding announcement.

The provisions of 2 CFR 200.207 instruct Federal agencies to comply with the requirements of 5 CFR part 1320, “Controlling Paperwork Burdens on the Public,” with regard to all forms or collection of additional information used by HUD in place of or as a supplement to the SF-424 series.

Respondents: Applicants for HUD's competitively funded financial assistance programs.

Information Collection/Form Number: SF 424 (4040-0004); SF-424B (4040-0007); SF-424D (4040-0009); SF 424A (4040-0006); SF-424C (4040-0008); SF LLL (4040-0013); Lobbying Form (4040-0013); Project Abstract Summary (4040-0019); HUD-424B; HUD-424CB; HUD-424CBW; HUD-424M; HUD-2880; HUD-50070; Rural Cert; HUD 50153; HUD 2991; HUD 2993; Program specific requirements and rating factors (narrative and other attachments)

Estimated Number of Respondents: HUD bases the following estimates on historical experience. HUD's average of 45 funding announcements per fiscal year will fall under this generic request, plus an expected average of 10 NOFOs derived from supplemental funding enacted outside of the regular appropriations process. Additionally, the Department projects that it will receive approximately 30,000 applications annually.

Frequency of Response: Refer to Table 1.

Responses per Annum: Refer to Table 1.

Average Burden Hours per Response: HUD estimates it takes an average of 40 working hours to prepare and submit an application in grants.gov in response to a funding announcement. For applications submitted through esnaps.gov, HUD estimates it takes an average of 100 working hours, including completing the registration in esnaps.hud.gov, preparing and submitting an application and technical submission, and proper storage of records.

Total Estimated Burdens: For purposes of this information collection request, the HUD has used the average hourly earnings of a Project Management Specialist ($48.85 per hour) to monetize the value of respondent time. Therefore, the burden for these reporting activities is as follows using average response times:

30,000 applications * 140 hours * 1.2 frequency = 5,040,000 hours

5,040,000 hours * $48.85 = $246,204,000

Table 1—Estimated Burden for Respondents
Information collection (OMB control No.) | Number of respondents | Frequency of response | Responses per annum | Burden hour per response | Annual burden hours | Hourly cost per response | Annual cost
SF 424 (4040-0004) | 0 | 0 |  | 0 | 0 | $0 | $0
SF-424B (4040-0007) | 0 | 0 |  | 0 | 0 | 0 | 0
SF-424D (4040-0009) | 0 | 0 |  | 0 | 0 | 0 | 0
SF 424A (4040-0006) | 0 | 0 |  | 0 | 0 | 0 | 0
SF-424C (4040-0008) | 0 | 0 |  | 0 | 0 | 0 | 0
SF LLL (4040-0013) | 0 | 0 |  | 0 | 0 | 0 | 0
Lobbying Form (4040-0013) | 0 | 0 |  | 0 | 0 | 0 | 0
Project Abstract Summary (4040-0019) | 0 | 0 |  | 0 | 0 | 0 | 0
HUD-424B | 30,000 | 1.2 | 36,000 | 0.5 | 18,000.00 | 48.85 | 879,300.00
HUD-424CB | 1,375 | 1.2 | 1,650 | 3 | 4,950.00 | 48.85 | 241,807.50
HUD-424CBW | 1,375 | 1.2 | 1,650 | 3 | 4,950.00 | 48.85 | 241,807.50
HUD-424M | 250 | 1.2 | 300 | 0.5 | 150.00 | 48.85 | 7,327.50
HUD-2880 | 30,000 | 1.2 | 36,000 | 2 | 72,000.00 | 48.85 | 3,517,200.00
HUD-50070 | 30,000 | 1.2 | 36,000 | 0.25 | 9,000.00 | 48.85 | 439,650.00
Rural Certification | 800 | 1.2 | 960 | 0.50 | 480.00 | 48.85 | 23,448.00
HUD 50153 | 800 | 1.2 | 960 | 0.25 | 240.00 | 48.85 | 11,724.00
HUD 2991 | 30,000 | 1.2 | 36,000 | 3 | 108,000.00 | 48.85 | 5,275,800.00
HUD 2993 | 30,000 | 1.2 | 36,000 | 0.25 | 9,000.00 | 48.85 | 439,650.00
Program specific requirements and rating factors (narrative and other attachments) | 30,000 | 1.2 | 36,000 | 127 | 4,572,000.00 | 48.85 | 223,342,200.00

HUD bases the following estimates on historical experience. HUD estimates it takes an average of 30 working hours for HUD to complete its pre-award activities associated with competitive applications, including parts 1 and 2 of the pre-award process. This includes activities related to proper storage of related records. For purposes of this information collection request, HUD has used a GS 13 step 5 rate ($51.25 per hour) to monetize the value of HUD time. Therefore, the burden for pre-award activities is as follows using average response times:

30,000 applications * 30 hours * 1.2 frequency = 1,080,000 hours

1,080,000 hours * $51.25 = $55,350,000

If the Department incurs any unique start-up or operational and maintenance costs with the collection of information covered by this ICR, HUD will include them on the request to OMB.

B. Solicitation of Public Comment

This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

C. Authority

The Paperwork Reduction Act of 1995, 44 U.S.C. chapter 35, as amended.

Daniel Ballard,
Acting Deputy Chief Financial Officer, Office of the Chief Financial Officer.

[FR Doc. 2023-22290 Filed 10-5-23; 8:45 am]

BILLING CODE P